DEPARTMENT OF DEFENSE

Defense Acquisition Regulations System

[Docket Number DARS-2020-0047; OMB Control Number 0750-0003]

Information Collection Requirement; Defense Federal Acquisition Regulation Supplement; Requests for Reimbursement Under Section 3610 of the CARES Act

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by April 22, 2021.

SUPPLEMENTARY INFORMATION:

Title and OMB Number: Defense Federal Acquisition Regulation Supplement (DFARS), Requests for Reimbursement under Section 3610 of the CARES Act; OMB Control Number 0750-0003.

Type of Request: Extension of a currently approved collection.

Obligation to Respond: Required to obtain or retain benefits.

Affected Public: Businesses or other for-profit and not-for-profit institutions.

Number of Respondents: 16,224.

Responses per Respondent: 1.5 approximately.

Annual Responses: 24,337.

Average Burden per Response: 63 hours approximately.

Annual Burden Hours: 1,523,053.

Reporting Frequency: On occasion.

Needs and Uses: Section 3610 of the Coronavirus Aid, Relief and Economic Security (CARES) Act (Pub. L. 116-136), enacted on March 27, 2020, authorizes, but does not require, contracting officers to modify contracts and other agreements, without consideration, to reimburse contractors for paid leave a contractor provides to keep its employees or subcontractors in a ready state, including to protect the life and safety of Government and contractor personnel, during the public health emergency declared for Coronavirus Disease (COVID-19).

A contractor request for reimbursement under section 3610 must include sufficient documentation to support the request and enable the contracting officer to determine whether a contractor is eligible for reimbursement under section 3610 and, if so, the amount of reimbursement to provide to a contractor. Contractors' requests for reimbursement under section 3610 will vary in dollar amount and complexity; as such, so will the amount and type of information needed from a contractor to support their reimbursement request. Based on this variation, contracting officers will use one of three DoD reimbursement checklists to advise contractors of the information needed to support their request. The information described in the checklists is necessary to collect from contractors in order to ensure that contracting officers are able to determine whether to approve the request for reimbursement and expediently modify the affected contract(s) for the authorized reimbursement amount.

Section 3610 also requires that any reimbursements made under its authority are reduced by the amount of credit a contractor is allowed under other provisions of the CARES Act and division G of the Families First Coronavirus Response Act (FFCRA) (Pub. L. 116-127). As the status of such credits may not be known at the time of reimbursement, DFARS clause 252.243-7999, Section 3610 Reimbursement (Deviation 2020-O0021), requires contractors to notify the contracting officer of any credits received after receiving reimbursement under section 3610 and make any repayment, as necessary, to comply with the requirements of section 3610. This information is necessary so that contracting officers may comply with the provisions of section 3610.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela James. Requests for copies of the information collection proposal should be sent to Ms. James at whs.mc-alex.esd.mbx.dd-dod-information-collections@mail.mil.

Jennifer D. Johnson,
Regulatory Control Officer, Defense Acquisition Regulations System.

[FR Doc. 2021-06010 Filed 3-22-21; 8:45 am]

BILLING CODE 5001-06-P